DEPARTMENT OF ENERGY

National Coal Council

AGENCY: Department of Energy, Office of Fossil Energy.

ACTION: Notice of renewal.

SUMMARY: Pursuant to Section 14(a)(2)(A) of the Federal Advisory Committee Act, (Pub. L. 92-463), and in accordance with Title 41 of the Code of Federal Regulations, Section 102-3.65, and following consultation with the Committee Management Secretariat, General Services Administration, notice is hereby given that the National Coal Council (NCC) will be renewed for a two-year period.

The Committee will continue to provide advice and recommendations to the Secretary of Energy on general policy matters relating to coal issues.

Additionally, the renewal of the National Coal Council has been determined to be essential to conduct business of the Department of Energy and to be in the public interest in connection with the performance of duties imposed upon the Department of Energy by law and agreement. The Committee will continue to operate in accordance with the provisions of the Federal Advisory Committee Act, adhering to the rules and regulations in implementation of that Act.

FOR FURTHER INFORMATION CONTACT: Dr. Robert Wright at (202) 586-0429.

Issued in Washington, DC on November 22, 2013.
Carol A. Matthews,
Committee Management Officer.

[FR Doc. 2013-28683 Filed 11-27-13; 8:45 am]

BILLING CODE 6450-01-P